DEPARTMENT OF THE INTERIOR

National Park Service

[NPS-WASO-NRSS-EQD-SSB-NPS0028676; PPWONRADE3, PPMRSNR1Y.NM000 (200); OMB Control Number 1024-0216]

Agency Information Collection Activities; National Park Service Visitor Survey Card

AGENCY: National Park Service, Interior.

ACTION: Notice of information collection; request for comment.

SUMMARY: In accordance with the Paperwork Reduction Act of 1995, we, the National Park Service (NPS) are proposing to renew an information collection.

DATES: Interested persons are invited to submit comments on or before August 4, 2020.

ADDRESSES: Send your comments on this information collection request (ICR) by mail to Phadrea Ponds, Acting NPS Information Collection Clearance Officer, National Park Service, 1201 Oakridge Drive, Fort Collins, CO 80525; or by email to phadrea_ponds@nps.gov. Please reference Office of Management and Budget (OMB) Control Number 1024-0216 in the subject line of your comments.

FOR FURTHER INFORMATION CONTACT: To request additional information about this ICR, contact Bret Meldrum by email at bret_meldrum@nps.gov, or by telephone at 970-267-7295.

SUPPLEMENTARY INFORMATION: In accordance with the PRA and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: As required by the Government Performance and Results Act (GPRA) codified in Public Law 103-62, the NPS uses the Visitor Survey Card (VSC) to monitor and report performance, accomplishments and progress toward pre-established management goals. The VSC is used to measure each park unit's performance related to NPS Management Policy and GPRA Goals IIa1 (visitor satisfaction) and IIb1 (visitor understanding and appreciation). Each year, approximately 330 participating NPS units use the VSC to collect data to evaluate visitor perception and satisfaction of service and facility quality, awareness of park significance, and basic demographic information. Park managers, superintendents and the NPS Social Science Program use the information collected to understand visitor use and improve park services and facilities to develop long-term strategic plans, annual goals, and performance improvement plans.

Title of Collection: National Park Service Visitor Survey Card.

OMB Control Number: 1024-0216.

Form Number: None.

Type of Review: Extension of a currently approved collection.

Respondents/Affected Public: General Public, any person visiting the national park during the sampling period.

Total Estimated Number of Annual Respondents: 62,270.

Total Estimated Number of Annual Responses: 62,270.

Estimated Completion Time per Response: 3 minutes to complete the full survey.

Total Estimated Number of Annual Burden Hours: 5,525 hours.

Respondent's Obligation: Voluntary.

Frequency of Collection: One-time, on occasion.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2020-11716 Filed 6-4-20; 8:45 am]

BILLING CODE 4312-52-P